DEPARTMENT OF HEALTH AND HUMAN SERVICES

Food and Drug Administration

Obstetrics and Gynecology Devices Panel of the Medical Devices Advisory Committee; Notice of Postponement of Meeting

AGENCY: Food and Drug Administration, HHS.

ACTION: Notice.

The Food and Drug Administration (FDA) is postponing the meeting of the Obstetrics and Gynecology Devices Panel of the Medical Devices Advisory Committee scheduled for May 16, 2008. The meeting was announced in the Federal Register of March 27, 2008 (73 FR 16315). FDA's Center for Devices and Radiological Health will further evaluate data relevant to the topic. A future meeting date will be announced in the Federal Register.

Contact Person: Michael Bailey, Center for Devices and Radiological Health (HFZ-470), Food and Drug Administration, 9200 Corporate Blvd., Rockville, MD 20850, 240-276-4100, or FDA Advisory Committee Information Line, 1-800-741-8138 (301-443-0572 in the Washington, DC area), code 3014512524. Please call the Information Line for up-to-date information on this meeting.

Dated: April 17, 2008.
Randall W. Lutter,
Deputy Commissioner for Policy.

[FR Doc. E8-8845 Filed 4-23-08; 8:45 am]

BILLING CODE 4160-01-S